FEDERAL COMMUNICATIONS COMMISSION

Notice of Public Information Collection(s) Being Reviewed by the Federal Communications Commission

April 7, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 22, 2003. If you anticipate that you will be submitting comments, but find it difficult to do so within the period of time allowed by this notice, you should advise the contact listed below as soon as possible.

ADDRESSES: Direct all comments to Judith B. Herman, Federal Communications Commission, Room 1-C804, 445 12th Street, SW., DC 20554 or via the Internet to Judith-B.Herman@fcc.gov.

FOR FURTHER INFORMATION CONTACT: For additional information or copies of the information collection(s), contact Judith B. Herman at (202) 418-0214 or via the Internet at Judith-B.Herman@fcc.gov.

SUPPLEMENTARY INFORMATION:

OMB Control No.: 3060-0066.

Title: Application for Renewal of Instruction Television Fixed Station (ITFS) and/or Response Station(s) and Low Power Relay Station(s) License.

Form No: FCC Form 330-R.

Type of Review: Extension of a currently approved collection.

Respondents: Not-for-profit institutions, state, local or tribal government.

Number of Respondents: 75.

Estimated Time Per Response: 3 hours.

Frequency of Response: Upon renewal—every 10 years.

Total Annual Burden: 225 hours.

Total Annual Cost: N/A.

Needs and Uses: FCC Form 330-R is used by licensees of Instruction Television Fixed (ITFS), Response, and Low Power Relay Stations to file for renewal of their licenses. The Commission is amending the form to include the FCC Registration Number (FRN) which is approved under OMB Control Number 3060-0728. The data is used by FCC staff to ensure that the licensee continues to meet basic Commission policies and rules, as well as statutory requirements to remain a licensee of an ITFS station. The information submitted on channel mapping/loading will permit the Commission to verify that programming aired outside the traditional school day is, in fact, directed to legitimate educational needs.

OMB Control No.: 3060-0994.

Title: Flexibility for Delivery of Communications by Mobile Satellite Service Providers in the 2 GHz Band, the L-Band, and the 1.6/2.4 GHz Band.

Form No: N/A.

Type of Review: Revision of a currently approved collection.

Respondents: Business or other for-profit.

Number of Respondents: 151.

Estimated Time Per Response: .50-50 hours.

Frequency of Response: On occasion, one-time, and annual reporting requirements, recordkeeping requirement, and third party disclosure requirement.

Total Annual Burden: 1,193 hours.

Total Annual Cost: $140,000.

Needs and Uses: On February 5, 2003, the Commission released a Report and Order (R&O) and Notice of Proposed Rulemaking (NPRM) in IB Docket No. 01-185 and 02-364, FCC 03-15. The decisions adopted in the R&O result in new and modified information collection requirements that are necessary to facilitate the Commission's rules addressed in parts 2 and 25 of 47 CFR. The purposes of the new or modified information collections are for the Commission to license commercial satellite services in the U.S.; obtain the legal and technical information required to facilitate the integration of Ancillary Terrestrial Components (ATCs) into the MSS networks in the 2 GHz Band, the L-Band, and the 1.6/2.4 GHz Bands; and to ensure that the licensees meet the Commission's legal and technical requirements to develop and maintain MSS networks while conserving limited spectrum for other telecommunications services.

OMB Control No.: 3060-0850.

Title: Quick Form Application for Authorization in the Ship, Amateur, Restricted and Commercial Operator, and General Mobile Radio Services.

Form No: FCC Form 605.

Type of Review: Revision of a currently approved collection.

Respondents: Individuals or households, business or other for-profit, not-for-profit institutions, state, local or tribal government.

Number of Respondents: 175,000.

Estimated Time Per Response: .44 hours.

Frequency of Response: On occasion, every five and ten years reporting requirements, recordkeeping requirement, and third party disclosure requirement.

Total Annual Burden: 77,000 hours.

Total Annual Cost: $2,538,000.

Needs and Uses: The FCC Form 605 is a multi-purpose form used to apply for an authorization to operate radio stations and perform a variety of other miscellaneous tasks in the Ship, Aircraft, Amateur, Restricted and Commercial Radio Operators, and General Mobile Radio Services. The form is being revised to incorporate additional data fields in accordance with the recommendation in International Maritime Organization (IMO) Assembly Resolution A.887(21) submitted by the National GMDSS Implementation Task Force (charted by the United States Coast Guard); to change certain certification statements into questions giving applicants the option to clarify if a license is required; and to clarify existing instructions for the general public. The Commission uses the information on the form to determine whether the applicant is legally, technically, and financially qualified to obtain a license. Information on the form will also be used to update the database and to provide for proper use of the frequency spectrum as well as enforcement purposes.

Federal Communications Commission.
Marlene H. Dortch,
Secretary.

[FR Doc. 03-9827 Filed 4-21-03; 8:45 am]

BILLING CODE 6712-01-P